DEPARTMENT OF THE INTERIOR

Fish and Wildlife Service

[Docket No. FWS-HQ-IA-2020-0140; FXIA16710900000-212-FF09A30000]

Endangered Species; Marine Mammals; Issuance of Permits

AGENCY: Fish and Wildlife Service, Interior.

ACTION: Notice of issuance of permits.

SUMMARY: We, the U.S. Fish and Wildlife Service, have issued the following permits to conduct certain activities with endangered species, marine mammals, or both. We issue these permits under the Endangered Species Act (ESA) and Marine Mammal Protection Act (MMPA).

ADDRESSES: Information about the applications for the permits listed in this notice is available online at www.regulations.gov. See SUPPLEMENTARY INFORMATION for details.

FOR FURTHER INFORMATION CONTACT: Tim MacDonald, by phone at 703-358-2185, via email at DMAFR@fws.gov, or via the Federal Relay Service at 800-877-8339.

SUPPLEMENTARY INFORMATION: We, the U.S. Fish and Wildlife Service (Service), have issued permits to conduct certain activities with endangered and threatened species in response to permit applications that we received under the authority of section 10(a)(1)(A) of the Endangered Species Act of 1973 (16 U.S.C. 1531 et seq.)

After considering the information submitted with each permit application and the public comments received, we issued the requested permits subject to certain conditions set forth in each permit. For each application for an endangered species, we found that (1) the application was filed in good faith, (2) the granted permit would not operate to the disadvantage of the endangered species, and (3) the granted permit would be consistent with the purposes and policy set forth in section 2 of the ESA.

Availability of Documents

The permittees' original permit application materials, along with public comments we received during public comment periods for the applications, are available for review. To locate the application materials and received comments, go to www.regulations.gov and search for the appropriate permit number (e.g., 12345C) provided in the following table:

Endangered Species
Permit No. | Applicant | Permit issuance date
56953D | Tony Goldberg | August 14, 2020.
69406D | U.S. Fish and Wildlife Service, Carlsbad Fish and Wildlife Office | August 17, 2020.
60225D | Minnesota Zoological Gardens | August 17, 2020.
60002D | Columbus Zoo and Aquarium | August 17, 2020.
49147D | Toledo Zoological Society | August 19, 2020.
76438D | Royal Botanic Gardens, Kew; c/o U.S. Fish and Wildlife Service | August 19, 2020.
63307D | University of Massachusetts at Amherst | August 19, 2020.
56470D | Chattanooga Zoo | August 18, 2020.
59321D | Peoria Zoo at Glen Oak Park | August 21, 2020.
105568 | United States Geological Survey, National Wildlife Health Center | October 9, 2020.
003005 | Louisiana State University, Museum of Natural Science | October 19, 2020.
93328C | University of Texas at Arlington, Amphibian and Reptile Diversity Research Center | October 19, 2020.
075249 | Sam Noble Oklahoma Museum of Natural History | October 26, 2020.
672849 | Priour Brothers Ranch | October 27, 2020.
707102 | Priour Brothers Ranch | November 4, 2020.
50097D | Rockin' S Exotic Game Ranch LLC | October 27, 2020.
50118D | Rockin' S Exotic Game Ranch LLC | October 27, 2020.
66472D | Minnesota Zoological Gardens | November 2, 2020.
69314D | Stanford University | November 2, 2020.
76665D | 777 Ranch | October 19, 2020.
60507D | Lonesome Bull Ranch | October 9, 2020.
68664D | Lonesome Bull Ranch | October 9, 2020.
70028D | Maryland Zoo in Baltimore | November 24, 2020.
56752D | International Center for the Preservation of Wild Animals (The Wilds) | November 23, 2020.
59433D | Mississippi Aquarium | November 23, 2020.
66451D | Saint Louis Zoo | November 23, 2020.
69790D | Animal Ark Wildlife Sanctuary | November 23, 2020.
70466A | Lucky 7 Ranch | November 23, 2020.
70470A | Lucky 7 Ranch | November 23, 2020.

Marine Mammals
Permit No. | Applicant | Permit issuance date
791721 | U.S. Geological Survey dba USGS Sirenia Project | October 20, 2020.
37946D | Charlie Hamilton James | November 20, 2020.
37058D | Charlie Hamilton James | November 18, 2020.

Authorities

We issue this notice under the authority of the Endangered Species Act, as amended (16 U.S.C. 1531 et seq.), and the Marine Mammal Protection Act as amended (16 U.S.C. 1361 et seq.) and their implementing regulations.

Timothy MacDonald,
Government Information Specialist, Branch of Permits, Division of Management Authority.

[FR Doc. 2021-06576 Filed 3-30-21; 8:45 am]

BILLING CODE 4333-15-P